DEPARTMENT OF DEFENSE

48 CFR Part 235

[DFARS Case 2001-D002]

Defense Federal Acquisition Regulation Supplement; Research and Development Streamlined Contracting Procedures; Correction

AGENCY: Department of Defense (DoD).

ACTION: Correction.

SUMMARY: DoD is issuing a correction to the preamble to the proposed rule published at 66 FR 63348-63349, December 6, 2001, pertaining to streamlined research and development contracting.

FOR FURTHER INFORMATION CONTACT: Ms. Angelena Moy, Defense Acquisition Regulations Council, OUSD (AT&L)DP(DAR), IMD 3C132, 3062 Defense Pentagon, Washington, DC 20301-3062. Telephone (703) 602-1302; facsimile (703) 602-0350.

Correction

In the issue of Thursday, December 6, 2001, on page 63349, in the first column, the second sentence of the Background section is corrected to read as follows: “The standard format is available on the research and development streamlined solicitation (RDSS) website at http://www.rdss.osd.mil.”

Michele P. Peterson,
Executive Editor, Defense Acquisition Regulations Council.

[FR Doc. 01-31354 Filed 12-19-01; 8:45 am]

BILLING CODE 5000-04-M